ENVIRONMENTAL PROTECTION AGENCY

40 CFR Part 300

[EPA-HQ-SFUND-1989-0008; FRL-9911-19-Region 1]

National Oil and Hazardous Substances Pollution Contingency Plan; National Priorities List: Deletion of the Town Garage/Radio Beacon Superfund Site

AGENCY: Environmental Protection Agency.

ACTION: Direct final rule.

SUMMARY: The Environmental Protection Agency (EPA) Region 1 is publishing a direct final Notice of Deletion of the Town Garage/Radio Beacon, Superfund (Site), located in Londonderry, New Hampshire from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of New Hampshire, through the New Hampshire Department of Environmental Services (NHDES), because EPA has determined that all appropriate response actions under CERCLA, have been completed. However, this deletion does not preclude future actions under Superfund.

DATES: This direct final deletion is effective July 21, 2014 unless EPA receives adverse comments by June 20, 2014. If adverse comments are received, EPA will publish a timely withdrawal of the direct final deletion in the Federal Register informing the public that the deletion will not take effect.

ADDRESSES: Submit your comments, identified by Docket ID no. EPA-HQ-SFUND-1989-0008, by one of the following methods:

• http://www.regulations.gov. Follow on-line instructions for submitting comments.

• Email: lovely.william@epa.gov or elliott.rodney@epa.gov.

• Fax: 617-918-0240 or 617-918-0372.

• Mail: William Lovely, EPA Region 1—New England, 5 Post Office Square, Suite 100, Mail Code OSRR07-4, Boston, MA 02109-3912 or Rodney Elliott, EPA Region 1—New England, 5 Post Office Square, Suite 100, Mail Code ORA01-1, Boston, MA 02109-3912.

• Hand delivery: William Lovely, EPA Region 1—New England, 5 Post Office Square, Suite 100, Mail Code OSRR07-4, Boston, MA 02109-3912 or Rodney Elliott, EPA Region 1—New England, 5 Post Office Square, Suite 100, Mail Code ORA01-1, Boston, MA 02109-3912. Such deliveries are only accepted during the Docket's normal hours of operation (9:00 a.m. to 5:00 p.m.), and special arrangements should be made for deliveries of boxed information.

Instructions: Direct your comments to Docket ID no. EPA-HQ-SFUND-1989-0008. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: U.S. Environmental Protection Agency, Records Center, 5 Post Office Square, Suite 100, Boston, MA 02109, 617-918-1440, Monday-Friday: 9:00 a.m.-5:00 p.m., Saturday and Sunday-Closed, and Leach Library, 276 Mammoth Road, Londonderry, NH 03055, 603-432-1132, Monday-Thursday: 9:00 a.m.-8:00 p.m., Thursday: 10:00 a.m.-5:00 p.m., Friday: 10:00 a.m.-2:00 p.m., Saturday: 9:00 a.m.-5:00 p.m., Sunday: Closed.

FOR FURTHER INFORMATION CONTACT: William Lovely, Remedial Project Manager, U.S. Environmental Protection Agency, Region 1 New England, 5 Post Office Square, Mail code OSRR07-4, Boston, MA 02109-3912, (617) 918-1240, email: lovely.william@epa.gov.

SUPPLEMENTARY INFORMATION:

Table of Contents

I. Introduction

II. NPL Deletion Criteria

III. Deletion Procedures

IV. Basis for Site Deletion

V. Deletion Action

I. Introduction

EPA Region 1 is publishing this direct final Notice of Deletion of the Town Garage/Radio Beacon Superfund (Site), from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective July 21, 2014 unless EPA receives adverse comments by June 20, 2014. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Town Garage/Radio Beacon Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the state of New Hampshire prior to developing this direct final Notice of Deletion and the Notice of Intent to Delete co-published today in the “Proposed Rules” section of the Federal Register.

(2) EPA has provided the state 30 working days for review of this notice and the parallel Notice of Intent to Delete prior to their publication today, and the state, through the New Hampshire Department of Environmental Services (NHDES), has concurred on the deletion of the Site from the NPL.

(3) Concurrently with the publication of this direct final Notice of Deletion, a notice of the availability of the parallel Notice of Intent to Delete is being published in a major local newspaper, the Union Leader. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Town Garage/Radio Beacon Superfund Site, CERCLIS ID No. NHD981063860, is located north of Pillsbury Road near the intersection of Pillsbury and High Range Roads in Londonderry, New Hampshire. The Site encompasses three residential developments, a wetland area, and the Londonderry Town Garage area located on High Range Road. The Site was discovered in 1984 following a request to the State by residents of the Holton Circle subdivision to sample their bedrock wells. Sampling results from NHDES revealed the presence of volatile organic compounds (VOCs) in several of the residential drinking water wells and the nearby Town Garage well at concentrations in excess of state and federal drinking water standards. In June 1988, the Site was proposed for inclusion on the NPL, (49 FR 40320) and the Site was made final to the NPL on March 31, 1989 (54 FR 13296).

Remedial Investigation

The RI/FS was completed in 1992. As part of the investigation, surface soil, subsurface soil, surface water, groundwater, and air were all evaluated and compared to appropriate benchmarks. Contaminants detected, and attributable to the Site, included: VOCs, semi-volatile organic compounds (SVOCs), and metals. The findings of the RI/FS determined that contaminant concentrations in groundwater posed an unacceptable risk to human health due to its current use as a drinking water source at that time. However, the risk was limited to future exposures because the extension of a public water supply in 1992/93 to nearby residents prevented current exposures to groundwater from private wells that were found to be impacted with Site-related contaminants. With respect to soil, surface water and sediments, the RI/FS determined that contaminant concentrations in these media were at levels that did not pose an unacceptable risk to human health or ecological receptors. Further details about the RI/FS are documented in the RI/FS reports, which are included as part of the administrative index and docket for the Site.

The Selected Remedy

To address the risks presented by future exposure to contaminated groundwater, EPA issued a Record of Decision (ROD) for the cleanup of the Site on September, 30 1992 that included the following the following remedial action objectives (RAOs):

• Prevent ingestion of water which contains compounds in concentrations that exceed federal and state enforceable drinking water standards; and

• Prevent ingestion of water containing compounds which have no enforceable federal or state drinking water standards, but which pose an unacceptable health risk.

In response to the RAO's, the 1992 ROD prescribed a remedy that included four major components: (1) Restoration of contaminated groundwater in the overburden and bedrock aquifers by natural attenuation, (2) institutional controls, (3) groundwater monitoring, and (4) an alternative water supply contingency. The goal of the remedy was to prevent future exposures to Site-related groundwater contaminants while natural attenuation processes gradually reduced contaminant concentrations to levels below state and federal standards.

Response Actions

Consistent with the 1992 ROD, groundwater monitoring was performed to track the progress of the aquifer restoration via natural attenuation and help prevent future exposures to Site-related groundwater contaminants. Institutional controls, in the form of a Groundwater Management Permit (GMP) that was issued by NHDES notified property owners of the groundwater contamination thereby helping to prevent future exposures to Site-related contaminants within the plume area. With respect to the contingency for an alternative water supply, this remedial component was not implemented because concurrently with the issuance of the ROD, the Town extended its municipal water supply to accommodate a new residential development near the Site on Saddleback Road. At that time, existing homes that were also located near the Site were connected to the municipal water supply as a precautionary measure to limit the likelihood of future exposures to contaminated groundwater.

From 1994 through 2012 groundwater samples were collected every Fall with the results showing that contaminant concentrations were gradually declining over time. After reviewing the 2012 Annual Summary Report, Groundwater Monitoring Program, which showed concentrations for all contaminants of concern identified in the 1992 ROD were below their respective cleanup levels, and at or near their lowest concentrations since the monitoring program began, EPA concluded that restoration of the overburden and bedrock aquifers by natural attenuation was complete and prepared a Final Close Out Report (FCOR) dated February 2014 to document that all Remedial Activities required by the 1992 ROD have been completed. The FCOR is included in the administrative record and deletion docket for the Site and a copy was also sent to the Leach public library.

Cleanup Levels

The interim groundwater cleanup levels selected by EPA in the 1992 ROD were selected based on the more stringent of a federal or state Applicable or Relevant and Appropriate (ARAR) standard, or in the absence of such standard, a risk based standard.

The cleanup levels were set to be within EPA's acceptable risk range of 1 × 10⁻⁴ to 1 × 10⁻⁶. Once groundwater monitoring results constituted the third consecutive annual sampling event where Site-related contaminant concentrations were either at or below the interim cleanup levels specified in the 1992 ROD, EPA performed a risk evaluation of residual groundwater contamination, a copy of which is included in the Deletion Docket. Based on the risk evaluation, as well as the technical information reflected in the Deletion Docket and Administrative Record, EPA has determined that the actions taken to address groundwater at the Site are protective of human health for the purposes of the CERCLA remediation. Further, based on this finding, the interim groundwater cleanup levels established in the ROD are protective and should be deemed the final performance standards for the groundwater cleanup.

Operation and Maintenance

Operation and maintenance activities as part of the remedial action consisted of groundwater monitoring in support of the natural attenuation remedy and administering the GMP, which served as the institutional control for the Site. However, with the achievement of the interim groundwater cleanup levels specified in the 1992 ROD, the groundwater monitoring program will be terminated and the GMP will not be renewed as there is no longer a need to maintain an institutional control on the Site.

Five-Year Reviews

Five Year Reviews have been competed for the Site in 1999, 2004, and 2009. Each of these reviews concluded that the remedy was protective of human health and the environment, but also recommended that: The existing monitoring program be expanded once the cleanup levels have been achieved to address additional data needs related to groundwater discharges to surface water; comparisons of groundwater data to newer standards, including for additional Site-related contaminants of concern that were not in effect when the 1992 ROD was issued; and an evaluation for the presence of 1,4-dioxane. In August 2010, EPA received the 2010 Annual Summary Report, Groundwater Monitoring Program, which showed that concentrations of all Site-related contaminants, were below their respective ROD cleanup levels, that arsenic and 1,4-dioxane in groundwater were below the laboratory reporting limits and respective maximum contaminant levels and that groundwater discharges to surface water were not an issue.

The Fourth Five-Year Review was due in March 2014. However, after reviewing the monitoring results for 2011, and 2012, which consistent with the 2010 results, were all below their respective ROD cleanup levels, EPA determined that no further Five-Year Reviews are required, because the Site has achieved the RAOs specified in the 1992 ROD. EPA's decision is documented in a memorandum dated February 19, 2014, which is included as part of the Docket for this notice.

Community Involvement

Consistent with the requirements of CERCLA and the NCP, EPA released a community relations plan in 1990 which kept the local citizens group and other interested parties informed through activities such as informational meetings, community updates, press releases, holding public hearings, and addressing public comments associated with the 1992 ROD. In addition, EPA periodically met with nearby residents and Town officials during routine site inspections and as part of the Five-Year Review process, which occurred in 1999, 2004, and 2009. EPA maintains a site file for the local community at the Leach public library located on 276 Mammoth Road, Londonderry, NH 03055 and at EPA's Boston offices.

Determination That the Site Meets the Criteria for Deletion in the NCP

The implemented remedy achieves the degree of cleanup specified in the ROD for all pathways of exposure. All selected remedial action objectives and clean-up levels are consistent with agency policy and guidance. No further Superfund responses are needed to protect human health and the environment at the Site.

The National Contingency Plan (NCP) specifies that EPA may delete a site from the NPL if “all appropriate responsible parties or other persons have implemented all appropriate response actions required” or “all appropriate fund financed response under CERCLA has been implemented and no further response action by responsible parties is appropriate”. EPA, with the concurrence of the State of New Hampshire through NHDES by a letter dated February 24, 2014, believes these criteria for deletion have been satisfied. Therefore, EPA is proposing the deletion of the Site from the NPL. All of the completion requirements for the Site have been met as described in the Town Garage/Radio Beacon Final Closeout Report (FCOR), dated February 2014.

V. Deletion Action

The EPA, with concurrence of the State of New Hampshire through the NHDES, has determined that all appropriate response actions under CERCLA, have been completed. Therefore, EPA is deleting the Site from the NPL.

Because EPA considers this action to be noncontroversial and routine, EPA is taking it without prior publication. This action will be effective July 21, 2014 unless EPA receives adverse comments by June 20, 2014. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: April 24, 2014.
H. Curtis Spalding,
Regional Administrator, EPA Region 1.

Therefore, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300—[Amended]

2. Table 1 of Appendix B to part 300 is amended by removing the entry for “NH”, “Town Garage/Radio Beacon”, “Londonderry”.

[FR Doc. 2014-11796 Filed 5-20-14; 8:45 am]

BILLING CODE 6560-50-P